NATIONAL AERONAUTICS AND SPACE ADMINISTRATION

[Notice: (00 081)]

Notice of Agency Report Forms Under OMB Review

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information is required to evaluate bids and proposals submitted to NASA for the award of contracts of value less than $500k for goods and services in support of NASA's mission, and in response to contractual requirements.

DATES: All comments should be submitted on or before September 12, 2000.

ADDRESSES: All comments should be addressed to Mr. Richard Kall, Code HK, National Aeronautics and Space Administration, Washington, DC 20546-0001.

FOR FURTHER INFORMATION CONTACT: Ms. Carmela Simonson, NASA Reports Officer, (202) 358-1223.

Title: NASA acquisition process, bids and proposals for contracts with an estimated value less than $500,000.

OMB Number: 2700-0087.

Type of review: Extension.

Need and Uses: Information collection is required to evaluate bids and proposals from offerors in order to award contacts for required goods and services in support of NASA's mission.

Affected Public: Business or other for-profit, not-for-profit institutions, State, Local or Tribal Government.

Number of Respondents: 11,000.

Responses Per Respondent: 1.

Annual Responses: 11,000.

Hours Per Request: 250-300.

Annual Burden Hours: 2,790,000.

Frequency of Report: On occasion.

David B. Nelson,
Deputy Chief Information Officer, Office of the Administrator.

[FR Doc. 00-17844 Filed 7-13-00; 8:45 am]

BILLING CODE 7510-01-P